DEPARTMENT OF STATE

[Public Notice: 10530]

In the Matter of the Designation of Jama'at Nusrat al-Islam wal-Muslimin (JNIM), aka Jamaat Nosrat al-Islam wal-Mouslimin, aka Group for the Support of Islam and Muslims, aka Group to Support Islam and Muslims, aka GSIM, aka GNIM, aka Nusrat al-Islam wal-Muslimeen, as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Jama'at Nusrat al-Islam wal-Muslimin (JNIM), also known as Jamaat Nosrat al-Islam wal-Mouslimin, also known as Group for the Support of Islam and Muslims, also known as Group to Support Islam and Muslims, also known as GSIM, also known as GNIM, also known as Nusrat al-Islam wal-Muslimeen.

Therefore, I hereby designate the aforementioned organization and its aliases as a foreign terrorist organization pursuant to section 219 of the INA.

This determination shall be published in the Federal Register.

Dated: July 15, 2018.
Michael R. Pompeo,
Secretary of State.

[FR Doc. 2018-19277 Filed 9-5-18; 8:45 am]

BILLING CODE 4710-AD-P